DEPARTMENT OF THE INTERIOR

Bureau of Reclamation

Prospective Grant of Exclusive Patent License

AGENCY: Bureau of Reclamation, Interior.

ACTION: Notice.

SUMMARY: This notice is issued in accordance with 35 U.S.C. 209(c)(1) and 37 CFR 404.7(a)(1)(I). The Bureau of Reclamation (Reclamation) is contemplating the granting of an exclusive license in the United States to practice the invention embodied in U.S. Patent No. 6,466,009 B1, entitled, “Flexible Printed Circuit Magnetic Flux Probe.” The exclusive license is to be granted to Iris Power Engineering having a place of business in Toronto, Canada. Iris Power Engineering is owned by Koch Industries, Inc. of Wichita, Kansas. The patent rights in this invention have been assigned to the United States of America.

The prospective exclusive license will be royalty-bearing and will comply with the terms and conditions of 35 U.S.C. 209 and 37 CFR 404.7. While the primary purpose of this notice is to announce Reclamation's intent to grant an exclusive license to practice the above listed patent, it also serves to publish the availability of this patent for licensing in accordance with law. The prospective license may be granted unless Reclamation receives written evidence and argument which establish that the grant of the license would not be consistent with the requirements of 35 U.S.C. 209 and 37 CFR 404.7.

DATES: Written evidence and arguments against granting the prospective license must be received by fifteen (15) days from the date of this notice.

ADDRESSES: Inquiries, comments, and other materials relating to the contemplated license may be submitted to Chuck Hennig, Research Coordinator, Bureau of Reclamation, Office of the Research Director, D-9000, P.O. Box 25007, Denver, CO 80225-0007.

A copy of the above identified patent may be purchased from the U.S. Patent and Trademark Office, by calling (703) 308-9726 or (800) 972-6382 or downloaded free of charge from the U.S. Patent and Trademark Office Web site at http://www.uspto.gov.

FOR FURTHER INFORMATION CONTACT: Chuck Hennig (chennig@do.usbr.gov), Research Coordinator, at 303-445-2134 or Siegie Potthoff (spotthoff@do.usbr.gov), Program Administrator, at 303-445-2136.

SUPPLEMENTARY INFORMATION: The invention relates to a flexible magnetic flux probe useful in the field of rotary generator and motor condition monitoring. Additional R&D is required to develop a commercially viable version of the device. In addition, a significant investment must be made to develop a market niche for the device.

Competing applications completed and received by Reclamation in response to this notice within fifteen (15) days of this posting will be considered as objections to the grant of the contemplated license. Application forms are available from the Office of the Research Director, Bureau of Reclamation at the address above.

Reclamation's practice is to make comments, including names and home addresses of respondents, available for public review. Individual respondents may request that we withhold their home address from public disclosure, which we will honor to the extent allowable by law. There may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: March 2, 2005.
Charles Hennig,
Research Coordinator, Denver Office.

[FR Doc. 05-6711 Filed 4-4-05; 8:45 am]

BILLING CODE 4310-MN-P